NATIONAL SCIENCE FOUNDATION

Notice of the Availability of an Environmental Assessment

AGENCY: National Science Foundation.

ACTION: Notice of availability of a draft Environmental Assessment for proposed activities in the Arctic.

SUMMARY: The National Science Foundation gives notice of the availability of a draft Environmental Assessment for proposed activities in the Arctic.

The Office of Polar Programs (OPP) has prepared an Environmental Assessment of a Biocomplexity Study of the Response of Tundra Carbon Balance to Warming and Drying Across Multiple Time Scales, 2005-2008. Given the United States Arctic Program's mission to support polar research, the proposed action is expected to result in substantial benefits to science. The draft Environmental Assessment is available for public review for a 30-day period.

DATES: Comments must be submitted on or before June 1, 2005.

ADDRESSES: Comments should be submitted to Dr. Polly A. Penhale, National Science Foundation, Office of Polar Programs, 4201 Wilson Blvd., Suite 755, Arlington, VA 22230. Telephone: (703) 292-8033. Copies of the draft Environmental Assessment are available upon request from Dr. Penhale, or at the Web site: http://www.nsf.gov/od/opp/arctic/arc_envir/tundra_ea.pdf.

SUPPLEMENTARY INFORMATION: This project will examine how biological and physical processes interact to control carbon uptake, storage and release in Arctic tundra ecosystems using an experimental approach to manipulate tundra moisture. Approximately 25% of the world's soil organic soil organic carbon reservoir is stored at high northern latitudes in permafrost and seasonally-thawed soils in the Arctic, a region that is currently undergoing unprecedented warming and drying, as well as dramatic changes in human land use. The objective of this study is to quantify linkages between soil moisture and carbon uptake, storage and release over multiple spatial (microbial to landscape) and temporal (minutes to decades) scales. Understanding how changes in annual and inter-annual ecosystem productivity interact and potentially offset the balance and stability of the Arctic soil carbon reservoir is of utmost importance to global climate change science.

The project is focused on a soil moisture manipulation involving a 60-hectare tundra flooding/draining experiment near Barrow, Alaska on the Arctic Coastal Plain. The project is located within the Barrow Environmental Observatory (BEO). The BEO is 7,446 acres of land owned by the Ukpeagvik Inupiat Corporation (UIC) in a designated Conservation District that has been zoned as a scientific research district for long-term, experimental studies, such as this.

A permit has been acquired by the project from the U.S. Army Corps of Engineers (U.S. ACOE) for the manipulation of wetland tundra. The National Science Foundation has received a Biological Opinion finding of non-jeopardy through the Section 7 Consultation with U.S. Fish and Wildlife Service required by the Endangered Species Act regarding the two threatened species that may be encountered or displaced by the project, Steller's elders and spectacled eiders. The potential impacts of the project were considered thoroughly during project planning and are anticipated to have no significant impact on the environment with the implementation of the associated mitigating measures defined in environmental assessment and the U.S. ACOE permit.

Copies of the draft Environmental Assessment titled, an Environmental Assessment of a Biocomplexity Study of the Response of Tundra Carbon Balance to Warming and Drying Across Multiple Time Scales, 2005-2008, are available upon request from: Dr. Polly A. Penhale, National Science Foundation, Office of Polar Programs, 4201 Wilson Blvd., Suite 755, Arlington, VA 22230. Telephone: (301) 292-8033 or at the agency's Web site at: http://www.nsf.gov/od/opp/arctic/arc_envir/tundra_ea.pdf. The National Science Foundation invites interested members of the public to provide written comments on this draft Environmental Assessment.

Polly A. Penhale,
Environmental Officer, Office of Polar Programs, National Science Foundation.

[FR Doc. 05-8690 Filed 4-29-05; 8:45 am]

BILLING CODE 7555-01-M